DEPARTMENT OF AGRICULTURE

National Agricultural Statistics Service

Notice of Intent To Request a Revision to a Currently Approved Information Collection

AGENCY: National Agricultural Statistics Service, (USDA).

ACTION: Notice and request for comments.

SUMMARY: In accordance with the Paperwork Reduction Act of 1995 44 U.S.C.301 et seq. and Office of Management and Budget regulations at 5 CFR part 1320 (60 FR 44978, August 29, 1995), this notice announces the intent of the National Agricultural Statistics Service (NASS) to request a revision to a currently approved information collection, (OMB No. 0535-0220) the Cotton Ginning Survey.

DATES: Comments on this notice must be received by October 20, 2003, to be assured of consideration.

ADDRESSES: Comments may be sent to Ginny McBride, NASS OMB Clearance Officer, U.S. Department of Agriculture, Room 5336 South Building, 1400 Independence Avenue SW., Washington, DC 20250 or to gmcbride@nass.usda.gov.

FOR FURTHER INFORMATION CONTACT: Carol House, Associate Administrator, NASS, USDA, (202) 720-4333.

SUPPLEMENTARY INFORMATION: Title: Cotton Ginning Survey.

OMB Control Number: 0535-0220.

Expiration Date of Approval: March 31, 2004.

Type of Request: To Revise a Currently Approved Information Collection.

Abstract: The primary objective of the NASS is to prepare and issue state and national estimates of crop and livestock production. The Cotton Ginning Survey provides statistics concerning cotton ginning for specific dates and geographic regions and aids in forecasting cotton production.

Estimate of Burden: Public reporting burden for this collection of information is estimated to average 6 minutes per response.

Respondents: Cotton Ginners.

Estimated Number of Respondents: 10,000.

Estimated Total Annual Burden on Respondents: 1,000 hours.

Copies of this information collection and related instructions can be obtained without charge from Ginny McBride, NASS OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, USDA, 1400 Independence Avenue SW., Room 5336 South Building, Washington, DC 20250-2009. All responses to this notice will become a matter of public record and be summarized in the request for OMB approval.

Signed at Washington, DC, July 14, 2000.
Carol House,
Associate Administrator.

[Editorial note: This document was received at the Office of the Federal Register on August 12, 2003.]

[FR Doc. 03-20878 Filed 8-14-03; 8:45 am]

BILLING CODE 3410-20-P